DEPARTMENT OF COMMERCE

Foreign-Trade Zones Board

[Docket T-3-2007]

Foreign-Trade Zone 7 - - Mayaguez, Puerto Rico, Application for Temporary/Interim Manufacturing Authority, Merck Sharpe & Dohme Quimica De Puerto Rico, Inc., (Pharmaceutical Products), Caguas, Puerto Rico

An application has been submitted to the Executive Secretary of the Foreign-Trade Zones Board (the Board) by the Puerto Rico Industrial Development Company (PRIDCO), grantee of FTZ 7, requesting temporary/interim manufacturing (T/IM) authority within FTZ 7 at the MOVA Pharmaceutical Corporation (MOVA) facility in Caguas, Puerto Rico, on behalf of Merck Sharp & Dohme Quimica De Puerto Rico, Inc. (MSDQ). The application was filed on May 10, 2007.

The MOVA facility (650 employees, 250,000 sq. ft.) is located at State Road 1, Km 34.8, within the Villa Blanca Industrial Park in Caguas (Site 1, Parcel 2). T/IM procedures would be used for pharmaceutical manufacturing involving two products, MK-431A and sitagliptin (HTSUS 3004.90 and 2933.59) on behalf of MSDQ for the U.S. market and export. Foreign components that would be used in the manufacturing process (up to 25%% of total content) include sitagliptin, metformin hydrochloride, enamine amide and butyl josphos (duty rates of 3.7 to 6.5%%). MSDQ has also submitted a request for permanent FTZ manufacturing authority (which will be docketed with the Board separately).

FTZ procedures would exempt MSDQ from Customs duty payments on foreign components used in production for export to non-NAFTA countries. For domestic and NAFTA markets, MSDQ could select the duty rate that applies to the finished product (duty-free to 6.5%%) for the components used in production when the finished products are entered for U.S. consumption from the zone. The application indicates that the company would also realize duty deferral and certain logistical/supply chain savings.

Public comment is invited from interested parties. Submissions (original and 3 copies) shall be addressed to the Board's Executive Secretary at the following address: Office of the Executive Secretary, Room 2111, U.S. Department of Commerce, 1401 Constitution Avenue, NW., Washington, DC 20230. The closing period for receipt of comments is June 18, 2007.

A copy of the application will be available for public inspection at the Office of the Foreign-Trade Zones Board's Executive Secretary at the address listed above. For further information, contact Christopher Kemp at: christopher_kemp@ita.doc.gov, or (202) 482-0862.

Dated: May 10, 2007.
Andrew McGilvray,
Executive Secretary.

[FR Doc. E7-9539 Filed 5-16-07; 8:45 am]

BILLING CODE 3510-DS-S